DEPARTMENT OF DEFENSE

Department of the Navy

Meeting of the United States Naval Academy Board of Visitors

AGENCY: Department of the Navy, DoD.

ACTION: Notice of partially closed meeting.

SUMMARY: The Department of Defense (DoD) is publishing this notice to announce that the following Federal Advisory Committee meeting of the United States Naval Academy Board of Visitors will take place.

DATES: The open session of the meeting will be held on December 3, 2018, from 9:00 a.m. to 11:15 a.m. The executive session held from 11:15 a.m. to 12:00 p.m. will be the closed portion of the meeting.

ADDRESSES: The meeting will be held at the United States Naval Academy in Annapolis, Maryland. The meeting will be handicap accessible.

FOR FURTHER INFORMATION CONTACT: LCDR Lawrence Heyworth IV, USN, 410-293-1500 (Voice), 410-293-2303 (Facsimile), heyworth@usna.edu (Email). Mailing address is U.S. Naval Academy, 121 Blake Road, Annapolis, MD 21402. Website: https://www.usna.edu/PAO/Superintendent/bov.php. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The U.S. Naval Academy Board of Visitors will meet to make such inquiry, as the Board shall deem necessary, into the state of morale and discipline, the curriculum, instruction, physical equipment, fiscal affairs, and academic methods of the Naval Academy.

Agenda: 0830-0900—Assemble/Coffee (OPEN to public); 0900—Call to Order (OPEN to public); 0900-1100—Business Session (OPEN to public); 1100-1115—Break (OPEN to public); 1115-1200—Executive Session (CLOSED to public).

Meeting Accessibility: The meeting will be handicap accessible.

Authority: 5 U.S.C. 552b.

Dated: October 3, 2018.
Meredith Steingold Werner,
Lieutenant Commander, Judge Advocate General's Corps, U.S. Navy, Federal Register Liaison Officer.

[FR Doc. 2018-21990 Filed 10-9-18; 8:45 am]

BILLING CODE 3810-FF-P